ENVIRONMENTAL PROTECTION AGENCY

40 CFR Part 52

[EPA-R06-OAR-2011-0919; FRL-9913-91-Region 6]

Approval and Promulgation of Implementation Plans; Texas; Conformity of General Federal Actions

AGENCY: Environmental Protection Agency (EPA).

ACTION: Proposed rule.

SUMMARY: The Environmental Protection Agency (EPA) is proposing to approve State Implementation Plan (SIP) revisions submitted by the State of Texas on October 28, 2011. These revisions remove the State general conformity provisions from the SIP so that Federal rules will govern conformity of general Federal actions within the State of Texas. The revisions also update the narrative portion of the SIP. This action is being taken in accordance with the Clean Air Act.

DATES: Written comments should be received on or before August 18, 2014.

ADDRESSES: Comments may be mailed to Mr. Guy Donaldson, Chief, Air Planning Section (6PD-L), Environmental Protection Agency, 1445 Ross Avenue, Suite 1200, Dallas, Texas 75202-2733. Comments may also be submitted electronically or through hand delivery/courier by following the detailed instructions in the ADDRESSES section of the direct final rule located in the rules section of this Federal Register.

FOR FURTHER INFORMATION CONTACT: Jeffrey Riley, (214) 665-8542, riley.jeffrey@epa.gov.

SUPPLEMENTARY INFORMATION: In the final rules section of this Federal Register, EPA is approving the State's SIP submittal as a direct rule without prior proposal because the Agency views this as noncontroversial submittal and anticipates no relevant adverse comments. A detailed rationale for the approval is set forth in the direct final rule. If no relevant adverse comments are received in response to this action no further activity is contemplated. If EPA receives relevant adverse comments, the direct final rule will be withdrawn and all public comments received will be addressed in a subsequent final rule based on this proposed rule. EPA will not institute a second comment period. Any parties interested in commenting on this action should do so at this time.

For additional information, see the direct final rule which is located in the rules section of this Federal Register.

Dated: July 7, 2014.
Ron Curry,
Regional Administrator, Region 6.

[FR Doc. 2014-16825 Filed 7-17-14; 8:45 am]

BILLING CODE 6560-50-P